DEPARTMENT OF THE INTERIOR

Fish and Wildlife Service

[FWS-R9-IA-2008-N0146; 96300-1671-0000-P5]

Receipt of Applications for Permit

AGENCY: Fish and Wildlife Service, Interior.

ACTION: Notice of receipt of applications for permit.

SUMMARY: The public is invited to comment on the following applications to conduct certain activities with endangered species and marine mammals.

DATES: Written data, comments or requests must be received by July 24, 2008.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 212, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to Section 10(c) of the Endangered Species Act of 1973, as amended (16 U.S.C. 1531 et seq.). Written data, comments, or requests for copies of these complete applications should be submitted to the Director (address above).

Applicant: National Institute of Allergy and Infectious Diseases, Laboratory of Molecular Microbiology, Bethesda, MD, PRT-182606.

The applicant requests a permit to acquire from Coriell Institute, Camden, NJ, in interstate commerce skin fibroblast cell cultures from a male Bornean orangutan (Pongo pygmaeus) and a male Sumatran orangutan (Pongo abelii) for the purpose of scientific research. This notification covers the one-time acquisition only.

Applicant: Duke Lemur Center, Duke University, Durham, NC, PRT-182626.

The applicant requests a permit to import biological samples from the following species: Mouse lemur (Microcebus rufus), Gray mouse lemur (Microcebus murinus), Berthe's mouse lemur (Microcebus berthae), Verreaux's sifaka (Prophitecus verreauxi), Diademed sifaka (Propithecus diadema), Red-fronted brown lemur (Eulemur rufus), White-fronted brown lemur (Eulemur albifrons), and Indri (Indri indri) for the purpose of enhancement of the species through scientific research. This notification covers activities conducted by the applicant for a five-year period.

Endangered Marine Mammals

The public is invited to comment on the following application for a permit to conduct certain activities with endangered marine mammals. The application was submitted to satisfy requirements of the Endangered Species Act of 1973, as amended (16 U.S.C. 1531 et seq.) and the Marine Mammal Protection Act of 1972, as amended (16 U.S.C. 1361 et seq.), and the regulations governing endangered species (50 CFR Part 17) and marine mammals (50 CFR Part 18). Written data, comments, or requests for copies of the complete applications or requests for a public hearing on these applications should be submitted to the Director (address above). Anyone requesting a hearing should give specific reasons why a hearing would be appropriate. The holding of such a hearing is at the discretion of the Director.

Applicant: Michael A.Wharton, Wharton Media, Aptos, CA, PRT-183345.

The applicant requests a permit to photograph Southern sea otters (Enhydra lutris nereis), both under and above water, for commercial and educational purposes. This notification covers activities to be conducted by the applicant over a one-year period.

Concurrent with the publication of this notice in the Federal Register, the Division of Management Authority is forwarding copies of the above applications to the Marine Mammal Commission and the Committee of Scientific Advisors for their review.

Dated: May 30, 2008.
Lisa J. Lierheimer,
Senior Permit Biologist, Branch of Permits, Division of Management Authority.

[FR Doc. E8-14200 Filed 6-23-08; 8:45 am]

BILLING CODE 4310-55-P